NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Open meeting of the Executive Committee of the National Science Board, to be held Monday, January 29, 2018, from 4:00-5:00 p.m. EST.

PLACE: This meeting will be held by teleconference at the National Science Foundation, 2415 Eisenhower Ave., Alexandria, VA 22314.

STATUS: Open.

MATTERS TO BE CONSIDERED: Committee Chair's Opening Remarks; approval of Executive Committee Minutes of October 10, 2017; discuss issues and topics for an agenda of the NSB Meeting scheduled for February 21-22, 2018.

CONTACT PERSON FOR MORE INFORMATION: Point of contact for this meeting is: James Hamos, 2415 Eisenhower Ave., Alexandria, VA 22314. Telephone: (703) 292-8000.

You may find meeting information and updates (time, place, subject matter or status of meeting) at http://www.nsf.gov/nsb/meetings/notices.jsp#sunshine.

SUPPLEMENTARY INFORMATION: An audio listening line will be available for the public. Members of the public must contact the Board Office to request the number by sending an email to nationalsciencebrd@nsf.gov at least 24 hours prior to the teleconference.

Chris Blair,
Executive Assistant to the NSB Office.

[FR Doc. 2018-01303 Filed 1-19-18; 4:15 pm]

BILLING CODE 7555-01-P